DEPARTMENT OF TRANSPORTATION

Federal Aviation Administration

14 CFR Part 39

[Docket No. 2000-NM-418-AD; Amendment 39-12964; AD 2002-23-20]

RIN 2120-AA64

Airworthiness Directives; DASSAULT AVIATION Model FALCON 900EX and MYSTERE-FALCON 900 Airplanes

AGENCY: Federal Aviation Administration, DOT.

ACTION: Final rule; correction.

SUMMARY: This document corrects a typographical error that appeared in airworthiness directive (AD) 2002-23-20 that was published in the Federal Register on November 29, 2002 (67 FR 71098). The typographical error resulted in an incorrect part number. This AD is applicable to Model FALCON 900EX and MYSTERE-FALCON 900 airplanes. This AD requires repetitive operational tests of the flap asymmetry detection system to verify proper functioning, and repair if necessary; repetitive replacement of the inboard flap jackscrews with new or reconditioned jackscrews; and repetitive measurement of the screw/nut play of the jackscrews on the inboard and outboard flaps to detect discrepancies, and corrective action if necessary. This AD also requires revision of the Airplane Flight Manual.

DATES: This correction is effective May 4, 2010. The effective date of AD 2002-23-20 remains January 3, 2003.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION: AD 2002-23-20, amendment 39-12964, applicable to Model FALCON 900EX and MYSTERE-FALCON 900 airplanes, was published in the Federal Register on November 29, 2002 (67 FR 71098). That AD requires repetitive operational tests of the flap asymmetry detection system to verify proper functioning, and repair if necessary; repetitive replacement of the inboard flap jackscrews with new or reconditioned jackscrews; and repetitive measurement of the screw/nut play of the jackscrews on the inboard and outboard flaps to detect discrepancies, and corrective action if necessary. That AD also requires revision of the Airplane Flight Manual.

As published, paragraph (e)(1) of the AD specifies in error jackscrew part number 5818-1 Amdt A. P/N 5818-1 Amdt A. does not exist. The correct part number is 5318-1 Amdt A.

Since no other part of the regulatory information has been changed, the final rule is not being republished in the Federal Register.

The effective date of this AD remains January 3, 2003.

§ 39.13 [Corrected]

On page 71101, in the first column, paragraph (e)(1) of AD 2002-23-20 is corrected to read as follows:

* * * * *

(1) The jackscrew has been reconditioned and reidentified as P/N 5318-1 Amdt A, in accordance with Dassault Service Bulletin AVIAC 5318-27-01, dated September 16, 1999.

* * * * *

Issued in Renton, Washington, on April 22, 2010.
Jeffrey E. Duven,
Acting Manager, Transport Airplane Directorate, Aircraft Certification Service.

[FR Doc. 2010-9943 Filed 5-3-10; 8:45 am]

BILLING CODE 4910-13-P